ENVIRONMENTAL PROTECTION AGENCY

[FRL-9753-01-OW]

Notice of Charter Renewal

AGENCY: Environmental Protection Agency (EPA).

ACTION: Notice.

The Charter for the United States Environmental Protection Agency's (EPA) Environmental Financial Advisory Board (EFAB) will be renewed for an additional two-year period, as a necessary committee which is in the public interest, in accordance with the provisions of the Federal Advisory Committee Act (FACA), 5 U.S.C. App. 2. The purpose of EFAB is to provide advice and recommendations to the EPA Administrator on issues associated with environmental financing. It is determined that EFAB is in the public interest in connection with the performance of duties imposed on the Agency by law. Inquiries may be directed to Tara Johnson, Water Infrastructure and Resiliency Finance Center, U.S. EPA, 1200 Pennsylvania Avenue NW, Washington, DC 20460 (Mail Code: 4204M), Telephone (202) 564-6186, or johnson.tara@epa.gov.

Dated: April 12, 2022.
Andrew D. Sawyers,
Director, Office of Wastewater Management, Office of Water.

[FR Doc. 2022-08397 Filed 4-19-22; 8:45 am]

BILLING CODE 6560-50-P